DEPARTMENT OF HOUSING AND URBAN DEVELOPMENT

[Docket No. FR-5496-N-02]

Notice of a Federal Advisory Committee Meeting Manufactured Housing Consensus Committee

AGENCY: Office of the Assistant Secretary for Housing—Federal Housing Commissioner, Department of Housing and Urban Development (HUD).

ACTION: Notice of a federal advisory committee meeting.

SUMMARY: This notice sets forth the schedule and proposed agenda for a meeting of the Manufactured Housing Consensus Committee (the Committee). The meeting is open to the public and the site is accessible to individuals with disabilities.

DATES: The meeting will be held on March 9-10, 2011, commencing at 9 a.m. of each day.

ADDRESSES: The meeting will be held at: Sheraton Suites Alexandria, 801 North Saint Asaph Street, Alexandria, Virginia 22314.

FOR FURTHER INFORMATION CONTACT: Elizabeth A. Cocke, Deputy Administrator, Department of Housing and Urban Development, 451 7th Street, SW., Room 9164, Washington, DC 20410, telephone (202) 708-6423 (this is not a toll-free number). Persons who have difficulty hearing or speaking may access this number via TTY by calling the toll-free Federal Information Relay Service at (800) 877-8339.

SUPPLEMENTARY INFORMATION: Notice of this meeting is provided in accordance with the Federal Advisory Committee Act, 5 U.S.C. App. 10(a)(2), through implementing regulations at 41 CFR 102-3.150. The Manufactured Housing Consensus Committee was established under section 604(a)(3) of the National Manufactured Housing Construction and Safety Standards Act of 1974, 42 U.S.C. 5403(a)(3), providing:

(A) Purpose: There is established a committee to be known as the “consensus committee”, which shall, in accordance with this title—

(i) Provide periodic recommendations to the Secretary to adopt, revise, and interpret the Federal manufactured housing construction and safety standards in accordance with this subsection;

(ii) Provide periodic recommendations to the Secretary to adopt, revise, and interpret the procedural and enforcement regulations, including regulations specifying the permissible scope and conduct of monitoring in accordance with subsection (b);

(iii) Be organized and carry out its business in a manner that guarantees a fair opportunity for the expression and consideration of various positions and for public participation; and,

(iv) Be deemed to be an advisory committee not composed of Federal employees.

Tentative Agenda: March 9-10, 2011.

Convene

Call to Order

Federal Advisory Committee Preliminaries

Roll Call/Establish Quorum

Welcome/Introductions/New Members

Administrative Matters/Announcements

Public Comments (a public comments period will be provided each day of the meeting)

Review/Approve Minutes of the October 27-28, 2010 Meeting

Report from HUD Manufactured Housing Program Office

Review Log of Proposals

Call for Committee Reports

Proposals

Subcommittees to MHCC

MHCC to HUD

HUD to MHCC

Special Actions

HUD proposed Interpretive Bulletins

Section 5 actions

Special actions in emergencies or

Failure of the Committee to make a timely recommendation

Adjourn

Dated: February 15, 2011.
Ronald Y. Spraker,
Associate General Deputy Assistant Secretary for Housing.

[FR Doc. 2011-3790 Filed 2-18-11; 8:45 am]

BILLING CODE 4210-67-P